DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them. Additionally, OFAC is publishing an update to the identifications under the Sectoral Sanctions Identification List.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac). A complete listing of persons determined to be subject to one or more directives under Executive Order 13662 of March 20, 2014, “Blocking Property of Additional Persons Contributing to the Situation in Ukraine” (E.O. 13662), as discussed in detail in this Notice, can be found in the Sectoral Sanctions Identification List at http://www.treasury.gov/resource-center/sanctions/SDN-List/Pages/ssi_list.aspx.

Notice of OFAC Actions

On January 26, 2018, OFAC determined that the property and interests in property subject to U.S. jurisdiction of the following persons are blocked under the relevant sanctions authority listed below.

Individuals

1. ANTIPOV, Igor Yurievich (a.k.a. ANTIPOV, Ihor), 23 Prospect Mayakovskogo, Apt. 110, Donetsk, Ukraine; 26 Ulitsa Turbinnaya, Donetsk, Ukraine; DOB 26 May 1961; Gender Male (individual) [UKRAINE-EO13660] (Linked To: DONETSK PEOPLE'S REPUBLIC). Designated pursuant to section 1(a)(v) of Executive Order 13660 of March 6, 2014, “Blocking Property of Certain Persons Contributing to the Situation in Ukraine” (E.O. 13660) for having acted or purported to act for or on behalf of, directly or indirectly, the so-called “DONETSK PEOPLE'S REPUBLIC,” a person determined to be subject to E.O. 13660.

2. GRANOVSKY, Aleksey Ivanovich, 41 Ulitsa Malakhova, Donetsk, Donetsk Region, Ukraine; DOB 03 Nov 1973; Gender Male (individual) [UKRAINE-EO13660] (Linked To: DONETSK PEOPLE'S REPUBLIC). Designated pursuant to section 1(a)(ii) of E.O. 13660 for having asserted governmental authority over any part or region of Ukraine without the authorization of the Government of Ukraine.

Also designated pursuant to section 1(a)(v) of E.O. 13660 for having acted or purported to act for or on behalf of, directly or indirectly, the so-called “DONETSK PEOPLE'S REPUBLIC,” a person determined to be subject to E.O. 13660.

3. KOSTENKO, Elena Nikolaevna (a.k.a. KOSTENKO, Olena Mykolaivna), Novoannivka Street, No. 9, Krasnodonsky District, Luhansk Region, Ukraine; DOB 13 Nov 1968; POB Krasnodonsky, Ukraine; Gender Female (individual) [UKRAINE-EO13660]. Designated pursuant to section 1(a)(ii) of E.O. 13660 for having asserted governmental authority over any part or region of Ukraine without the authorization of the Government of Ukraine.

4. MALAKHOVA, Svetlana Anatolievna (a.k.a. MALAKHOVA, Svetlana Anatolyevna; a.k.a. MALAKHOVA, Svitlana Anatoliivna), 2A Levanevsky Street, Luhansk, Luhansk Region, Ukraine; DOB 27 Aug 1964; Gender Female (individual) [UKRAINE-EO13660]. Designated pursuant to section 1(a)(ii) of E.O. 13660 for having asserted governmental authority over any part or region of Ukraine without the authorization of the Government of Ukraine.

5. MALGIN, Pavel Vladimirovich (a.k.a. MALGIN, Pavlo Volodymirovich; a.k.a. MALHIN, Pavlo), Quarter Koshevogo 37, Apt. 28, Molodogvardeysk, Ukraine; Lenin Street 3, Apt. 1, Sorokino Krasnodon, Ukraine; DOB 30 Mar 1968; POB Krasnodon, Ukraine; Gender Male (individual) [UKRAINE-EO13660]. Designated pursuant to section 1(a)(ii) of E.O. 13660 for having asserted governmental authority over any part or region of Ukraine without the authorization of the Government of Ukraine.

6. MATYUSHCHENKO, Ekaterina Sergeevna (a.k.a. MATIUSHCHENKO, Ekaterina Sergeevna; a.k.a. MATYUSHCHENKO, Kateryna), 20 Ulitsa Novosadovaya, Apt. 41, Donetsk, Donetsk Region, Ukraine; DOB 01 Feb 1979; Gender Female (individual) [UKRAINE-EO13660] (Linked To: DONETSK PEOPLE'S REPUBLIC). Designated pursuant to section 1(a)(ii) of E.O. 13660 for having asserted governmental authority over any part or region of Ukraine without the authorization of the Government of Ukraine.

Also designated pursuant to section 1(a)(v) of E.O. 13660 for having acted or purported to act for or on behalf of, directly or indirectly, the so-called “DONETSK PEOPLE'S REPUBLIC,” a person determined to be subject to E.O. 13660.

7. MELNYCHUK, Oleksandr (a.k.a. MELNICHUK, Aleksandr Aleksandrovich), Ukraine; DOB 17 Jan 1965; POB Rovenki, Ukraine; Gender Male (individual) [UKRAINE-EO13660] (Linked To: LUHANSK PEOPLE'S REPUBLIC). Designated pursuant to section 1(a)(iv) of E.O. 13660 for having materially assisted, sponsored, or provided financial, material, technological support for, or goods or services to or in support of, the so-called “LUHANSK PEOPLE'S REPUBLIC,” a person determined to be subject to E.O. 13660.

8. MELNYCHUK, Serhiy (a.k.a. MELNICHUK, Sergey; a.k.a. MELNYCHUK, Sergiy Oleksandrovich), Ukraine; DOB 30 Sep 1976; POB Rovenki, Ukraine; Gender Male (individual) [UKRAINE-EO13660] (Linked To: LUHANSK PEOPLE'S REPUBLIC). Designated pursuant to section 1(a)(iv) of E.O. 13660 for having materially assisted, sponsored, or provided financial, material, technological support for, or goods or services to or in support of, the so-called “LUHANSK PEOPLE'S REPUBLIC,” a person determined to be subject to E.O. 13660.

9. NIKONOROVA, Natalya Yurievna, 7 Ulitsa Dneprodzerzhinskaya, Apt. 142, Donetsk, Donetsk Region, Ukraine; DOB 28 Sep 1984; Gender Female (individual) [UKRAINE-EO13660] (Linked To: DONETSK PEOPLE'S REPUBLIC). Designated pursuant to section 1(a)(ii) of E.O. 13660 for having asserted governmental authority over any part or region of Ukraine without the authorization of the Government of Ukraine. Also designated pursuant to section 1(a)(v) of E.O. 13660 for having acted or purported to act for or on behalf of, directly or indirectly, the so-called “DONETSK PEOPLE'S REPUBLIC,” a person determined to be subject to E.O. 13660.

10. OVSYANNIKOV, Dmitry Vladimirovich (Cyrillic: ОВСЯННИКОВ, ДМИТРИЙ ВЛАДИМИРОВИЧ), Sevastopol, Crimea, Ukraine; DOB 21 Feb 1977; POB Omsk, Russia; Gender Male (individual) [UKRAINE-EO13660]. Designated pursuant to section 1(a)(i)(B) of E.O. 13660 for being responsible for or complicit in, or having engaged in, directly or indirectly, actions or policies that threaten the peace, security, stability, sovereignty, or territorial integrity of Ukraine.

11. PASHKOV, Vladimir Igorevich, Russia; Ukraine; DOB 1961; POB Bratsk, Russia; Gender Male (individual) [UKRAINE-EO13660] (Linked To: DONETSK PEOPLE'S REPUBLIC; Linked To: LUHANSK PEOPLE'S REPUBLIC). Designated pursuant to section 1(a)(v) of E.O. 13660 for having acted or purported to act for or on behalf of, directly or indirectly, the so-called “DONETSK PEOPLE'S REPUBLIC,” a person determined to be subject to E.O. 13660.

Also designated pursuant to section 1(a)(v) of E.O. 13660 for having acted or purported to act for or on behalf of, directly or indirectly, the so-called “LUHANSK PEOPLE'S REPUBLIC,” a person determined to be subject to E.O. 13660.

12. PAVLENKO, Vladimir Nikolaevich (a.k.a. PAVLENKO, Volodymyr Mykolaiovych), Ukraine; Gender Male; Minister of State Security of the so-called Donetsk People's Republic (individual) [UKRAINE-EO13660] (Linked To: DONETSK PEOPLE'S REPUBLIC). Designated pursuant to section 1(a)(v) of E.O. 13660 for having acted or purported to act for or on behalf of, directly or indirectly, the so-called “DONETSK PEOPLE'S REPUBLIC,” a person determined to be subject to E.O. 13660.

13. RADOMSKAYA, Elena Vladimirovna (a.k.a. RADOMSKA, Olena; a.k.a. RADOMSKAYA, Yelena), 211 Ulitsa Kuibysheva, Apt. 65, Donetsk, Donetsk Region, Ukraine; DOB 15 Nov 1974; Gender Female (individual) [UKRAINE-EO13660] (Linked To: DONETSK PEOPLE'S REPUBLIC). Designated pursuant to section 1(a)(ii) of E.O. 13660 for having asserted governmental authority over any part or region of Ukraine without the authorization of the Government of Ukraine.

Also designated pursuant to section 1(a)(v) of E.O. 13660 for having acted or purported to act for or on behalf of, directly or indirectly, the so-called “DONETSK PEOPLE'S REPUBLIC,” a person determined to be subject to E.O. 13660.

14. TIMOFEEV, Aleksandr Yurievich (a.k.a. TIMOFEYEV, Aleksandr Yuryevich; a.k.a. TYMOFEEV, Oleksandr Yuriyovich), 134 Ulitsa Petrovskogo, Apt. 98, Donetsk, Ukraine; DOB 15 May 1971; Gender Male (individual) [UKRAINE-EO13660] (Linked To: DONETSK PEOPLE'S REPUBLIC). Designated pursuant to section 1(a)(v) of E.O. 13660 for having acted or purported to act for or on behalf of, directly or indirectly, the so-called “DONETSK PEOPLE'S REPUBLIC,” a person determined to be subject to E.O. 13660.

15. CHEREZOV, Andrey Vladimirovich (a.k.a. CHEREZOV, Andrei; a.k.a. CHEREZOV, Andrey), Russia; DOB 12 Oct 1967; POB Salair, Kemerovsakya Oblast, Russia; nationality Russia; Gender Male; Deputy Minister of Energy in the Department of Operational Control and Management in the Electric Power Industry (individual) [UKRAINE-EO13661]. Designated pursuant to section 1(a)(ii)(A) of Executive Order 13661 of March 16, 2014, “Blocking Property of Additional Persons Contributing to the Situation in Ukraine” (E.O. 13661) for being an official of the Government of the Russian Federation.

16. GRABCHAK, Evgeniy Petrovich (a.k.a. GRABCHAK, Evgeniy; a.k.a. GRABCHAK, Evgeny), Russia; DOB 18 Jul 1981; POB Ust-Labinsk, Krasnodar Region, Russia; nationality Russia; Gender Male; Head of the Department of Operational Control and Management in the Electric Power Industry in the Energy Ministry of the Russian Federation (individual) [UKRAINE-EO13661]. Designated pursuant to section 1(a)(ii)(A) of E.O. 13661 for being an official of the Government of the Russian Federation.

17. KOLOSOV, Bogdan Valeryevich (a.k.a. KOLOSOV, Bogdan), House 177, Apt. 64, Izhevsk, Udmurtskaya Respublika 426060, Russia; DOB 06 May 1985; Gender Male (individual) [UKRAINE-EO13661] (Linked To: KALASHNIKOV CONCERN). Designated pursuant to section 1(a)(ii)(C)(2) of E.O. 13661 for having acted or purported to act for or on behalf of, directly or indirectly, KALASHNIKOV CONCERN, a person determined to be subject to E.O. 13661.

Also designated pursuant to section 1(a)(ii)(D)(2) of E.O. 13661 for having materially assisted, sponsored, or provided financial, material, or technological support for, or goods or services to or in support of, KALASHNIKOV CONCERN, a person determined to be subject to E.O. 13661.

18. PENTYA, Aleksandr Yevgenyevich (a.k.a. PENTYA, Alexander), St. Petersburg, Russia; DOB 07 Sep 1985; Gender Male (individual) [UKRAINE-EO13661] (Linked To: CJSC ABR MANAGEMENT). Designated pursuant to section 1(a)(ii)(C)(2) of E.O. 13661 for acting or purporting to act for or on behalf of, directly or indirectly, CJSC ABR MANAGEMENT, a person determined to be subject to E.O. 13661.

19. ABRAMOV, Valeri Vyacheslavovich (a.k.a. ABRAMOV, Valerii Vyacheslavovich), St. Petersburg, Russia; 133, ul. Chernyshevskogo, Vologda, Vologodskaya Obl 160019, Russia; 122 Grazhdanskiy Prospect, Suite 5, Liter A, St. Petersburg 195267, Russia; DOB 06 Jan 1963; POB Tula, Russia; Gender Male; Tax ID No. 780201346432 (Russia); General Director (individual) [UKRAINE-EO13685] (Linked To: VAD, AO). Designated pursuant to section 2(a)(iii) of Executive Order 13685 of December 19, 2014, “Blocking Property of Certain Persons and Prohibiting Certain Transactions With Respect to the Crimea Region of Ukraine” (E.O. 13685) for having acted or purported to act for or on behalf of, directly or indirectly, VAD, AO, a person determined to be subject to E.O. 13685.

20. PEREVALOV, Viktor Pavlovich, St. Petersburg, Russia; 133, ul. Chernyshevskogo, Vologda, Vologodskaya Obl 160019, Russia; 122 Grazhdanskiy Prospect, Suite 5, Liter A, St. Petersburg 195267, Russia; DOB 27 Jun 1963; Gender Male; Tax ID No. 780201527164 (Russia); First Deputy General Director (individual) [UKRAINE-EO13685] (Linked To: VAD, AO). Designated pursuant to section 2(a)(iii) of E.O. 13685 for having acted or purported to act for or on behalf of, directly or indirectly, VAD, AO, a person determined to be subject to E.O. 13685.

21. TOPOR-GILKA, Sergey Anatolyevich, Russia; DOB 17 Feb 1970; Gender Male;

Director General of Limited Liability Company Foreign Economic Association Technopromexport (individual) [UKRAINE-EO13685] (Linked To: LIMITED LIABILITY COMPANY FOREIGN ECONOMIC ASSOCIATION TECHNOPROMEXPORT). Designated pursuant to section 2(a)(iii) of E.O. 13685 for having acted or purported to act for or on behalf of, directly or indirectly, LIMITED LIABILITY COMPANY FOREIGN ECONOMIC ASSOCIATION TECHNOPROMEXPORT, a person determined to be subject to E.O. 13685.

Also designated pursuant to section 2(a)(iii) of E.O. 13685 for having acted or purported to act for or on behalf of, directly or indirectly, OTKRYTOE AKTSIONERNOE OBSHCHESTVO VNESHNEEKONOMICHESKOE OBEDINENIE TEKHNOPROMEKSPORT, a person determined to be subject to E.O. 13685.

Entities

1. DONCOALTRADE SP Z O O, Ul. Barbary 21, Katowice, woj. Slaskie, pow. M. Katowice 40-053, Poland; Registration ID 0000421465 (Poland) [UKRAINE-EO13660] (Linked To: MELNYCHUK, Oleksandr). Designated pursuant to section 1(a)(v) of E.O. 13660 for being owned or controlled by Oleksandr MELNYCHUK, a person determined to be subject to E.O. 13660.

2. KOMPANIYA GAZ-ALYANS, OOO (a.k.a. COMPANY GAZ-ALLIANCE LLC; a.k.a. OBSHCHESTVO S OGRANICHENNOI OTVETSTVENNOSTYU KOMPANIYA GAZ-ALYANS), 15 Ul. Svobody, Nizhni Novgorod, Nizhegorodskaya Obl. 603003, Russia; Registration ID 1142311010885 (Russia) [UKRAINE-EO13660] (Linked To: DONETSK PEOPLE'S REPUBLIC; Linked To: LUHANSK PEOPLE'S REPUBLIC; Linked To: ZAO VNESHTORGSERVIS). Designated pursuant to section 1(a)(iv) of E.O. 13660 for having materially assisted, sponsored, or provided financial, material, or technological support for, or goods or services to or in support of, ZAO VNESHTORGSERVIS, a person determined to be subject to E.O. 13660.

Also designated pursuant to section 1(a)(iv) of E.O. 13660 for having materially assisted, sponsored, or provided financial, material, or technological support for, or goods or services to or in support of, the so-called “DONETSK PEOPLE'S REPUBLIC,” a person determined to be subject to E.O. 13660.

Also designated pursuant to section 1(a)(iv) of E.O. 13660 for having materially assisted, sponsored, or provided financial, material, or technological support for, or goods or services to or in support of, the so-called “LUHANSK PEOPLE'S REPUBLIC,” a person determined to be subject to E.O. 13660.

3. UGOLNYE TEKHNOLOGII, OOO (a.k.a. COAL TECHNOLOGIES; a.k.a. OBSHCHESTVO S OGRANICHENNOI OTVETSTVENNOSTYU “UGOLNYE TEKHNOLOGII”), d. 25 ofis 13, 14, per. Avtomobilny, Rostov-on-Don, Rostovskaya Oblast 344038, Russia; Registration ID 1146164002621 [UKRAINE-EO13660] (Linked To: DONETSK PEOPLE'S REPUBLIC; Linked To: LUHANSK PEOPLE'S REPUBLIC). Designated pursuant to section 1(a)(iv) of E.O. 13660 for having materially assisted, sponsored, or provided financial, material, or technological support for, or goods or services to or in support of, the so-called “DONETSK PEOPLE'S REPUBLIC,” a person determined to be subject to E.O. 13660.

Also designated pursuant to section 1(a)(iv) of E.O. 13660 for having materially assisted, sponsored, or provided financial, material, or technological support for, or goods or services to or in support of, the so-called “LUHANSK PEOPLE'S REPUBLIC,” a person determined to be subject to E.O. 13660.

4. ZAO VNESHTORGSERVIS, 1 Geroyev Street, Tskhinval, South Ossetia, Georgia [UKRAINE-EO13660] (Linked To: DONETSK PEOPLE'S REPUBLIC; Linked To: LUHANSK PEOPLE'S REPUBLIC). Designated pursuant to section 1(a)(v) of E.O. 13660 for having acted or purported to act for or on behalf of, directly or indirectly, the so-called “DONETSK PEOPLE'S REPUBLIC,” a person determined to be subject to E.O. 13660.

Also designated pursuant to section 1(a)(v) of E.O. 13660 for having acted or purported to act for or on behalf of, directly or indirectly, the so-called “LUHANSK PEOPLE'S REPUBLIC,” a person determined to be subject to E.O. 13660.

5. EVRO POLIS LTD. (a.k.a. EVRO POLIS, OOO; a.k.a. OBSHCHESTVO S OGRANICHENNOI OTVETSTVENNOSTYU EVRO POLIS), d. 1A pom. 9.1A, Shosse Ilinskoe, Krasnogorsk, Krasnogorski Raion, Moskovskaya Obl. 143409, Russia; Registration ID 1165024055613 [UKRAINE-EO13661] (Linked To: PRIGOZHIN, Yevgeniy Viktorovich). Designated pursuant to section 1(a)(ii)(C)(2) of E.O. 13661 for being owned or controlled by Yevgeniy PRIGOZHIN, a person determined to be subject to E.O. 13661.

6. INSTAR LODZHISTIKS, OOO (a.k.a. INSTAR LOGISTICS), d. 20 str., 7 ofis 102V, ul. Elektrozavodskaya, Moscow 1072023, Russia; Registration ID 1027739429981 (Russia); Tax ID No. 7714136948 (Russia); Government Gazette Number 18631592 (Russia) [UKRAINE-EO13661]. Designated pursuant to section 1(a)(ii)(C)(2) of E.O. 13661 for having acted or purported to act for or on behalf of, directly or indirectly, KALASHNIKOV CONCERN, a person determined to be subject to E.O. 13661.

Also designated pursuant to section 1(a)(ii)(D)(2) of E.O. 13661 for having materially assisted, sponsored, or provided financial, material, or technological support for, or goods or services to or in support of, KALASHNIKOV CONCERN, a person determined to be subject to E.O. 13661.

7. PJSC POWER MACHINES (a.k.a. OPEN JOINT STOCK COMPANY POWER MACHINES—ZTL, LMZ, ELECTROSILA, ENERGOMACHEXPORT; a.k.a. PUBLICHNOE AKTSIONERNOE OBSHCHESTVO SILOVYE MASHINY—ZTL, LMZ, ELEKTROSILA, ENERGOMASHEKSPORT; a.k.a. SILOVYE MASHINY, PAO), 3A Vatutina St., St. Petersburg 195009, Russia; Registration ID 1027700004012 (Russia) [UKRAINE-EO13685]. Designated pursuant to section 2(a)(iv) of E.O. 13685 for having materially assisted, sponsored, or provided financial, material, or technological support for, or goods or services to or in support of, LIMITED LIABILITY COMPANY FOREIGN ECONOMIC ASSOCIATION TECHNOPROMEXPORT, a person determined to be subject to E.O. 13685.

Also designated pursuant to section 2(a)(iv) of E.O. 13685 for having materially assisted, sponsored, or provided financial, material, or technological support for, or goods or services to or in support of, OTKRYTOE AKTSIONERNOE OBSHCHESTVO VNESHNEEKONOMICHESKOE OBEDINENIE TEKHNOPROMEKSPORT, a person determined to be subject to E.O. 13685.

8. LIMITED LIABILITY COMPANY FOREIGN ECONOMIC ASSOCIATION TECHNOPROMEXPORT (a.k.a. OBSCHESTVO S OGRANICHENNOI OTVESTVENNOSTYU VNESHNEEKONOMICHESKOE OBEDINENIE TEKHNOPROMEKSPORT; a.k.a. OOO VO TECHNOPROMEXPORT; a.k.a. OOO VO TPE), Novyi Arbat Str. 15, Building 2, Moscow 119019, Russia; Registration ID 1147746527279 (Russia); Tax ID No. 7704863782e (Russia) [UKRAINE-EO13685]. Designated pursuant to section 2(a)(i) of E.O. 13685 for operating in the Crimea region of Ukraine.

9. VAD, AO (a.k.a. AKTSIONERNOE OBSHCHESTVO VAD; a.k.a. AO, VAD; a.k.a. CJSC VAD; a.k.a. JOINT STOCK COMPANY VAD; a.k.a. JSC VAD; a.k.a. ZAO VAD; a.k.a. “HIGH-QUALITY HIGHWAYS”), 133, ul. Chernyshevskogo, Vologda, Vologodskaya Obl 160019, Russia; 122 Grazhdanskiy Prospect, Suite 5, Liter A, St. Petersburg 195267, Russia; website www.zaovad.com; Email Address office@zaovad.com; Registration ID 1037804006811 (Russia); Tax ID No. 7802059185 (Russia); Government Gazette Number 34390716 (Russia) [UKRAINE-EO13685]. Designated pursuant to section 2(a)(i) of E.O. 13685 for operating in the Crimea region of Ukraine.

On January 26, 2018, OFAC determined SURGUTNEFTEGAS owns, directly or indirectly, a 50 percent or greater interest in the entities listed below. As a result of such ownership, these entities are subject to the prohibitions of Directive 4 (as amended) of October 31, 2017, issued pursuant to E.O. 13662, 31 CFR 589.406 and 589.802, and following the Secretary of the Treasury's determination of July 16, 2014 pursuant to section l(a)(i) of E.O. 13662 with respect to the energy sector of the Russian Federation economy. These entities are being identified in the Sectoral Sanctions Identification List:

1. KALININGRADNEFTEPRODUKT OOO (a.k.a. KALININGRADNEFTEPRODUKT LLC; a.k.a. LIMITED LIABILITY COMPANY KALININGRADNEFTEPRODUCT; a.k.a. LLC KALININGRADNEFTEPRODUCT), 22-b Komsomolskaya Ulitsa, Central District, Kaliningrad, Russia; Email Address knp@baltnet.ru; Executive Order 13662 Directive Determination—Subject to Directive 4; Nationality of Registration Russia; Registration ID 1023900589240 (Russia); Tax ID No. 3900000136 (Russia); For more information, please reference the following link: http://www.treasury.gov/resource-center/sanctions/OFAC-Enforcement/Pages/OFAC-Recent-Actions.aspx [UKRAINE-EO13662] (Linked To: SURGUTNEFTEGAS).

2. KINEF OOO (a.k.a. KINEF, LLC; a.k.a. LIMITED LIABILITY COMPANY PRODUCTION ASSOCIATION KIRISHINEFTEORGSINTEZ; a.k.a. LLC KINEF), d. 1 Shosse Entuziastov, Kirishi, Leningradskaya Oblast 187110, Russia; website http://www.kinef.ru; Email Address kinef@kinef.ru; Executive Order 13662 Directive Determination—Subject to Directive 4; Nationality of Registration Russia; Registration ID 1024701478735 (Russia); Tax ID No. 4708007089 (Russia); For more information, please reference the following link: http://www.treasury.gov/resource-center/sanctions/OFAC-Enforcement/Pages/OFAC-Recent-Actions.aspx [UKRAINE-EO13662] (Linked To: SURGUTNEFTEGAS).

3. KIRISHIAVTOSERVIS OOO (a.k.a. LIMITED LIABILITY COMPANY KIRISHIAVTOSERVIS; a.k.a. LLC KIRISHIAVTOSERVIS), Lit A, 12 Smolenskaya Ulitsa, St. Petersburg 196084, Russia; website www.kirishiavtoservis.ru; Executive Order 13662 Directive Determination—Subject to Directive 4; Nationality of Registration Russia; Registration ID 1057807804064 (Russia); Tax ID No. 7840016802 (Russia); For more information, please reference the following link: http://www.treasury.gov/resource-center/sanctions/OFAC-Enforcement/Pages/OFAC-Recent-Actions.aspx [UKRAINE-EO13662] (Linked To: SURGUTNEFTEGAS).

4. LENGIPRONEFTEKHIM OOO (a.k.a. INSTITUT PO PROEKTIROVANIYU PREDPRIYATY NEFTEPERERABATYVAYUSCHEY I NEFTEKHIMICHESKOY PROMYSHLENNOSTI, LIMITED LIABILITY COMPANY; a.k.a. LIMITED LIABILITY COMPANY OIL REFINING AND PETROCHEMICAL FACILITIES DESIGN INSTITUTE; a.k.a. LLC LENGIPRONEFTEKHIM), D. 94, Obvodnogo Kanala, nab, St. Petersburg 196084, Russia; Email Address lgnch@lgnch.spb.ru; Executive Order 13662 Directive Determination—Subject to Directive 4; Nationality of Registration Russia; Registration ID 1057803105755 (Russia); Tax ID No. 7810327462 (Russia); For more information, please reference the following link: http://www.treasury.gov/resource-center/sanctions/OFAC-Enforcement/Pages/OFAC-Recent-Actions.aspx [UKRAINE-EO13662] (Linked To: SURGUTNEFTEGAS).

5. MEDIA-INVEST OOO (a.k.a. LIMITED LIABILITY COMPANY MEDIA-INVEST; a.k.a. LLC MEDIA-INVEST), 17, Bld 1, Zubovsky Boulevard, Moscow 119847, Russia; Executive Order 13662 Directive Determination—Subject to Directive 4; Nationality of Registration Russia; Registration ID 1077762407580 (Russia); Tax ID No. 7704667322 (Russia); For more information, please reference the following link: http://www.treasury.gov/resource-center/sanctions/OFAC-Enforcement/Pages/OFAC-Recent-Actions.aspx [UKRAINE-EO13662] (Linked To: SURGUTNEFTEGAS).

6. NOVGORODNEFTEPRODUKT OOO (a.k.a. LIMITED LIABILITY COMPANY NOVGORODNEFTEPRODUCT; a.k.a. LLC NOVGORODNEFTEPRODUCT; a.k.a. NOVGORODNEFTEPRODUKT LLC), d. 20 Germana Ulitsa, Veliky Novgorod, Novgorodskaya Oblast 173002, Russia; Email Address office@nnp.surgutneftegas.ru; Executive Order 13662 Directive Determination—Subject to Directive 4; Nationality of Registration Russia; Registration ID 1025300788644 (Russia); Tax ID No. 5321059365 (Russia); For more information, please reference the following link: http://www.treasury.gov/resource-center/sanctions/OFAC-Enforcement/Pages/OFAC-Recent-Actions.aspx [UKRAINE-EO13662] (Linked To: SURGUTNEFTEGAS).

7. PSKOVNEFTEPRODUKT OOO (a.k.a. LIMITED LIABILITY COMPANY MARKETING ASSOCIATION PSKOVNEFTEPRODUCT; a.k.a. LLC PSKOVNEFTEPRODUCT), 4 Oktyabrsky Prospekt, Pskov 180000, Russia; website http://www.pskovnefteprodukt.ru; Executive Order 13662 Directive Determination—Subject to Directive 4; Nationality of Registration Russia; Registration ID 1026000970049 (Russia); Tax ID No. 6027042337 (Russia); For more information, please reference the following link: http://www.treasury.gov/resource-center/sanctions/OFAC-Enforcement/Pages/OFAC-Recent-Actions.aspx [UKRAINE-EO13662] (Linked To: SURGUTNEFTEGAS).

8. SNGB AO (a.k.a. CLOSED JOINT STOCK COMPANY SURGUTNEFTEGASBANK (ZAO SNGB); a.k.a. JOINT STOCK COMPANY SURGUTNEFTEGASBANK; a.k.a. JSC BANK SNGB), 19 Kukuyevitskogo Street, Surgut 628400, Russia; website www.sngb.ru; Executive Order 13662 Directive Determination—Subject to Directive 4; Nationality of Registration Russia; Registration ID 1028600001792 (Russia); Tax ID No. 8602190258 (Russia); For more information, please reference the following link: http://www.treasury.gov/resource-center/sanctions/OFAC-Enforcement/Pages/OFAC-Recent-Actions.aspx [UKRAINE-EO13662] (Linked To: SURGUTNEFTEGAS).

9. SO TVERNEFTEPRODUKT OOO (a.k.a. LIMITED LIABILITY COMPANY MARKETING ASSOCIATION TVERNEFTEPRODUCT; a.k.a. LLC MA TVERNEFTEPRODUCT), 6 Novotorzhskaya Ulitsa, Tver, Russia; website www.tvernefteproduct.ru; Email Address tnp@dep.tvcom.ru; Executive Order 13662 Directive Determination—Subject to Directive 4; Nationality of Registration Russia; Registration ID 1026900510647 (Russia); Tax ID No. 6905041501 (Russia); For more information, please reference the following link: http://www.treasury.gov/resource-center/sanctions/OFAC-Enforcement/Pages/OFAC-Recent-Actions.aspx [UKRAINE-EO13662] (Linked To: SURGUTNEFTEGAS).

10. SOVKHOZ CHERVISHEVSKI PAO (a.k.a. OJSC SOVKHOZ CHERVISHEVSKY; a.k.a. OPEN JOINT STOCK COMPANY SOVKHOZ CHERVISHEVSKY; a.k.a. SOVKHOZ CHERVISHEVSKY, JSC), d. 81 Sovetskaya Ulitsa, S. Chervichevsky, Tyumensky Rayon, Tyumenskaya Oblast 625519, Russia; Email Address sovxoz@list.ru; Executive Order 13662 Directive Determination—Subject to Directive 4; Nationality of Registration Russia; Registration ID 1027200789142 (Russia); Tax ID No. 7224019466 (Russia); For more information, please reference the following link: http://www.treasury.gov/resource-center/sanctions/OFAC-Enforcement/Pages/OFAC-Recent-Actions.aspx [UKRAINE-EO13662] (Linked To: SURGUTNEFTEGAS).

11. STRAKHOVOVE OBSHCHESTVO SURGUTNEFTEGAZ OOO (a.k.a. INSURANCE COMPANY SURGUTNEFTEGAS, LLC; a.k.a. LIMITED LIABILITY COMPANY INSURANCE COMPANY SURGUTNEFTEGAS; a.k.a. LLC INSURANCE COMPANY SURGUTNEFTEGAS), 9/1 Lermontova Ulitsa, Surgut 628418, Russia; website www.sngi.ru; Executive Order 13662 Directive Determination—Subject to Directive 4; Nationality of Registration Russia; Registration ID 1028600581811 (Russia); Tax ID No. 8602103061 (Russia); For more information, please reference the following link: http://www.treasury.gov/resource-center/sanctions/OFAC-Enforcement/Pages/OFAC-Recent-Actions.aspx [UKRAINE-EO13662] (Linked To: SURGUTNEFTEGAS).

12. SURGUTMEBEL OOO (a.k.a. LIMITED LIABILITY COMPANY SYRGUTMEBEL; a.k.a. LLC SURGUTMEBEL; a.k.a. LLC SYRGUTMEBEL; a.k.a. SURGUTMEBEL, LLC), Vostochnaya Industrial 1 Territory 2, Poselok Barsovo, Surgutsky District, Yugra, Khanty-Mansiysky Autonomous Okrug, Russia; website http://surgutmebel.ru; Email Address realsbt@surgutneftegaz.ru; Executive Order 13662 Directive Determination—Subject to Directive 4; Nationality of Registration Russia; Registration ID 1028601679688 (Russia); Tax ID No. 8617013396 (Russia); For more information, please reference the following link: http://www.treasury.gov/resource-center/sanctions/OFAC-Enforcement/Pages/OFAC-Recent-Actions.aspx [UKRAINE-EO13662] (Linked To: SURGUTNEFTEGAS).

Dated: January 29, 2018.
John E. Smith,
Director, Office of Foreign Assets Control.

[FR Doc. 2018-02149 Filed 2-2-18; 8:45 am]

BILLING CODE 4810-AL-P